NUCLEAR REGULATORY COMMISSION

Sunshine Act Meeting

Agency Holding The Meetings: Nuclear Regulatory Commission.

Date: Weeks of April 3, 10, 17, 24, May 1, 8, 2006.

Place: Commissioners' Conference Room, 11555 Rockville Pike, Rockville, Maryland.

Status: Public and closed.

Matters To Be Considered:

Week of April 3, 2006

Monday, April 3, 2006—

3:55 p.m. Affirmation Session (Public Meeting) (Tentative).

a. USEC, Inc. (American Centrifuge Plant); Geoffrey Sea appeal of LBP-05-28 (Tentative).

b. USEC, Inc. (American Centrifuge Plant)—Appeal of LBP-05-28 by Portsmouth/Piketon Residents for Environmental Safety and Security (PRESS) (Tentative).

c. Hydro Resources, Inc.—Petition for Review and Partial Initial Decision on Phase II Cultural Resource Challenges (Tentative).

Week of April 10, 2006—Tentative

There are no meetings scheduled for the Week of April 10, 2006.

Week of April 17, 2006—Tentative

There are no meetings scheduled for the Week of April 17, 2006.

Week of April 24, 2006—Tentative

Monday, April 24, 2006—

2 p.m. Meeting with Federal Energy Regulatory Commission (FERC), FERC Headquarters, 888 First St., NE., Washington, DC 20426, Room 2C (Public Meeting). (Contact: Mike Mayfield, (301) 415-3298).

This meeting will be Webcast live at the Web address— http://www.ferc.gov.

Wednesday, April 26, 2006—

1 p.m. Discussion of Management Issues (Closed-Ex. 2).

Thursday, April 27, 2006—

1:30 p.m. Meeting with Department of Energy (DOE) on New Reactor Issues (Public Meeting).

This meeting will be Webcast live at the Web address— http://www.nrc.gov.

Week of May 1, 2006—Tentative

Tuesday, May 2, 2006—

9:30 a.m. Briefing on Status of Emergency Planning Activities—Morning Session (Public Meeting) (Contact: Eric Leeds, (301) 415-2334).

1 p.m. Briefing on Status of Emergency Planning Activities—Afternoon Session (Public Meeting).

These meetings will be Webcast live at the Web address— http://www.nrc.gov.

Wednesday, May 3, 2006—

9 a.m. Briefing on Status of Risk-Informed, Performance-Based Regulation (Public Meeting) (Contact: Eileen McKenna, (301) 415-2189).

This meeting will be Webcast live at the Web address— http://www.nrc.gov.

Week of May 8, 2006—Tentative

There are no meetings scheduled for the Week of May 8, 2006.

* * * * *

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-7100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301 415-1969). In addition, distribution of this meeting notice over the Internet system is available. If you are interested in receiving this Commission meeting schedule electronically, please send an electronic message to dkw@nrc.gov.

Dated: March 31, 2006.
R. Michelle Schroll,
Office of the Secretary.

[FR Doc. 06-3258 Filed 3-31-06; 11:56 am]

BILLING CODE 7590-01-M